MILLENNIUM CHALLENGE CORPORATION

[MCC FR 06-18]

Sunshine Act Meeting (Revised); Notice of the November 8, 2006 Millennium Challenge Corporation Board of Directors Meeting

AGENCY: Millennium Challenge Corporation.

TIME AND DATE: 10 a.m. to 12 p.m., Wednesday, November 8, 2006.

PLACE: Department of State, 2201 C Street, NW., Washington, DC 20520.

FOR FURTHER INFORMATION CONTACT: Information on the meeting may be obtained from Suzi M. Morris via e-mail at Board@mcc.gov or by telephone at (202) 521-3600.

STATUS: Meeting will be closed to the public.

MATTERS TO BE CONSIDERED: The Board of Directors (the “Board”) of the Millennium Challenge Corporation (“MCC”) will hold a meeting to consider the selection of countries that will be eligible for FY 2007 Millennium Challenge Account (“MCA”) assistance under Section 607 of the Millennium Challenge Act of 2003 (the “Act”), codified at 22 U.S.C. 7706, and Threshold Program assistance under Section 616 of the Act, codified at 22 U.S.C. 7715; discuss the proposed Compact with El Salvador; discuss other Compact and Threshold Program-related matters, and certain administrative matters. The agenda items are expected to involve the consideration of classified information and the meeting will be closed to the public.

Dated: October 31, 2006.
William Geoff Anderson, Jr.,
Vice President and General Counsel (Acting), Millennium Challenge Corporation.

[FR Doc. 06-9066 Filed 10-31-06; 4:57 pm]

BILLING CODE 9210-01-P